DEPARTMENT OF ENERGY

Federal Energy Regulatory Commission

[Project No. 2299-082]

Turlock Irrigation District, Modesto Irrigation District; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Major License.

b. Project No.: 2299-082.

c. Date filed: October 11, 2017.

d. Applicant: Turlock Irrigation District and Modesto Irrigation District (Districts).

e. Name of Project: Don Pedro Hydroelectric Project.

f. Location: The Don Pedro Project is located on the Tuolumne River in Tuolumne County, California. Portions of the project occupy public lands managed by the Bureau of Land Management.

g. Filed Pursuant to: Federal Power Act, 16 U.S.C. 791(a)-825(r).

h. Applicant Contacts: Steve Boyd, Turlock Irrigation District, 333 East Canal Drive, Turlock, California 95381-0949, (209) 883-8300; and Anna Brathwaite, Modesto Irrigation District, P.O. Box 4060, Modesto, CA 95352, (209) 526-7384.

i. FERC Contact: Jim Hastreiter at (503) 552-2760 or james.hastreiter@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2299-082.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Don Pedro Project consists of the following existing facilities: (1) A 580-foot-high, 1,900-foot-long earth and rockfill dam with a gross storage capacity of 2,030,000 acre-feet, located on the Tuolumne River 54.8 miles upstream of its confluence with the San Joaquin River; (2) a 30-foot-high, 45-foot-wide, 135-foot-long gated spillway including three radial gates each 45-foot-wide by 30-foot-high; (3) a 995-foot-long ungated ogee spillway with a crest elevation of 830 feet; (4) a set of outlet works located at the left abutment of the dam consisting of three individual gate housings, each containing two 4-foot-by-5-foot slide gates; (5) a 3,500-foot-long-concrete lined tunnel with a total hydraulic capacity of 7,500 cubic feet per second; (6) a 2,960-foot-long power tunnel located in the left abutment of the dam that transitions from an 18-foot concrete-lined section to a 16-foot steel-lined section; (7) a 21-foot-high, 12-foot-wide emergency closure fixed-wheel gate; (8) a powerhouse located immediately downstream of the dam containing a 72-inch hollow jet valve and four Francis turbine-generator units with a nameplate capacity of 168 megawatts; (9) a switchyard located on top of the powerhouse; (10) a 75-foot-high earth and rockfill Gasburg Creek dike with a slide-gate controlled 18-inch-diameter conduit located near the downstream end of the spillway; (11) three small embankments dikes (dike A is located between the main dam and spillway and dikes B and C are located east of the main dam); (12) recreation facilities on Don Pedro reservoir, including Fleming Meadows, Blue Oaks, and Moccasin Point; and (13) appurtenant facilities and features including access roads. The project's estimated average annual generation is about 550,000 megawatt-hours.

The Districts propose to: (1) Conduct coarse sediment augmentation from river mile (RM) 39 to RM 52 over a 10-year period; (2) provide gravel mobilization flows of 6,000 to 7,000 cfs during years when sufficient spill is projected to occur; (3) conduct a five-year program of experimental gravel cleaning; (4) implement a boulder placement program to improve aquatic habitat between RM 42 and RM 50; (5) contribute $50,000 per year to the California Division of Boating and Waterways to assist with the removal of water hyacinth and other non-native flora; (6) implement a fall-run Chinook spawning improvement superimposition reduction program; (7) implement a predator control and suppression program that would include construction and operation of a fish counting/barrier weir and active predator control and suppression; (8) develop a fall-run Chinook salmon restoration hatchery; (9) install an improved take-out facility at RM 78 at Ward's Ferry and a new take-out and put-in facility at RM 25.7; (10) implement flow-related measures including the construction of infiltration galleries and the provision of base flows and pulse flows designed to benefit specific salmonid life stages and provide for recreational boating; (11) monitor the effectiveness of gravel, aquatic habitat and predator control measures; and (12) implement management plans for fire prevention and response, spill prevention and countermeasures, aquatic invasive species, woody debris, terrestrial resources, recreation resources, historic properties, and transportation.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Filing of recommendations, preliminary terms and conditions, and preliminary fishway prescriptions | December 2017.
Commission issues Draft Environmental Statement (EIS) | July 2018.
Comments on Draft EIS | September 2018.
Modified Terms and Conditions | November 2018.
Commission Issues Final EIS | February 2019.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: November 30, 2017.
Nathaniel J. Davis, Sr.,
Deputy Secretary.

[FR Doc. 2017-26246 Filed 12-5-17; 8:45 am]

BILLING CODE 6717-01-P